DEPARTMENT OF DEFENSE

Office of the Secretary

Privacy Act of 1974; System of Records

AGENCY: Department of Defense (DoD).

ACTION: Rescindment of system of records notices (SORNs).

SUMMARY: In accordance with the Privacy Act of 1974, the DoD is providing notice to rescind 26 Privacy Act SORNs. A description of these systems can be found in the SUPPLEMENTARY INFORMATION section.

DATES: The rescindment of these SORNs is effective October 7, 2024.

FOR FURTHER INFORMATION CONTACT: Ms. Rahwa Keleta, Privacy and Civil Liberties Directorate, Office of the Assistant to the Secretary of Defense for Privacy, Civil Liberties, and Transparency, Department of Defense, 4800 Mark Center Drive, Mailbox #24, Suite 05F16, Alexandria, VA 22350-1700, OSD.DPCLTD@mail.mil, (703) 571-0070.

SUPPLEMENTARY INFORMATION:

I. Background

Pursuant to the provisions of the Privacy Act of 1974, 5 U.S.C. 552a, and as part of its ongoing integration and management efforts, the DoD is removing 26 Privacy Act SORNs from its inventory. Upon review of its inventory, DoD determined it no longer needs or uses these systems of records because the records are covered by other SORNs; therefore, DoD is retiring the following:

These eight systems of records [items (a) through (h)] are being rescinded because the records are now maintained as part of the DoD-wide system of records titled DoD-0020, Military Human Resource Records, published in the Federal Register on May 14, 2024 (89 FR 42459).

(a) The Department of the Navy system of records N01070-3, Navy Military Personnel Records System (April 15, 2010, 75 FR 19627) was established to assist officials and employees of the Navy in the management, supervision and administration of Navy personnel (officer and enlisted) and the operations of related personnel affairs and functions.

(b) The Department of the Navy system of records N01080-1, Enlisted Master File Automated Systems, (June 7, 2013, 78 FR 34354) was established to assist in the administration, management, and supervision of Navy enlisted personnel and the operation of personnel affairs and functions.

(c) The Department of the Navy system of records N01080-2, Officer Master File Automated Systems (November 1, 2013, 78 FR 65620) was established to assist officials and employees of the Navy in their official duties related to the management, supervision, and administration of both active duty and retired naval officers, and in the operation of personnel affairs and functions.

(d) The Defense Logistics Agency system of records S310.07, Military Online Personnel System (March 21, 2013, 78 FR 17385) was established to manage, administer, and document the service member's assignment; to provide career advice to service members; and to advise primary level field activity Commanders and the Director of incidents. The data is also used for reports on force effectiveness, contingency planning, training requirements, and manpower deficiencies.

(e) The Defense Logistics Agency system of records S200.30, Reserve Affairs Records Collection (June 10, 2010, 75 FR 32915) was established to provide background information on individuals assigned to DLA and to document their assignment. Data is used in preparation of personnel actions such as reassignments, classification actions, promotions, scheduling, and verification of active duty and inactive duty training. The data is also used for management and statistical reports and studies.

(f) The Department of the Air Force system of records F036 AF PC C, Military Personnel Records System (October 13, 2000, 65 FR 60916) was established to maintain actions/processes related to procurement, education and training, classification, assignment, career development, evaluation, promotion, compensation, sustentation, separation and retirement.

(g) The Department of the Air Force system of records F036 AF PC Q, Personnel Data System (PDS) (June 11, 1997, 62 FR 31793) was established as a centralized personnel management system in an environment that is widely dispersed geographically and encompasses a population that is diverse in terms of qualifications, experience, military status and needs.

(h) The Department of the Air Force system of records F036 AFPC E, Temporary Disability Retirement List (TDRL) Case Files (March 05, 2013, 78 FR 14288) was established to maintain oversight of Air Force personnel placed on the Temporary Disability Retirement List (TDRL).

These two systems of records [items (i) through (j)] are being rescinded because the records are now maintained as part of the DoD-wide system of records titled DoD-0015, Enterprise Identity, Credential, and Access Management (ICAM) Records, published in the Federal Register on December 16, 2022 (87 FR 77085).

(i) The Defense Finance and Accounting Service (DFAS) system of records T5210, Account Management Provisioning System (AMPS) (October 17, 2014, 79 FR 62431) was established to maintain information operations to control and track access to controlled networks, computer systems, and databases. The records may also be used by law enforcements officials to identify the occurrence of and assist in the prevention of computer misuse and/or crime. Statistical data, with all personal identifiers removed, may be used by management for system efficiency, workload calculation, or reporting purposes.

(j) The Defense Information System Agency (DISA) system of records KWHC.07, Agency Access/Pass File System (February 22, 1993, 58 FR 10562) was established to record names, signatures and identity of those authorized access. Used to obtain and grant clearance or extension of clearance for access to classified information, equipment, sites or containers. Used to prevent unauthorized access or disclosure of classified material or information.

These three systems of records [items (k) through (m)] are rescinded because the records are now maintained as a part of the DoD-wide system of records titled DoD-0019, Information Technology Access and Audit Records (ITAAR) published in the Federal Register on September 1, 2023 (88 FR 60442).

(k) The Defense Contract Audit Agency system of records RDCAA 590.14, RDCAA Access Request Records (October 01, 2008, 73 FR 57069) was established to control and track access to DCAA-controlled networks, computer systems, and databases. The records may also be used by law enforcement officials to identify the occurrence of and assist in the prevention of computer misuse and/or crime.

(l) The Defense Logistics Agency system of records S500.55, Information Technology Access and Control Records (November 19, 2014, 79 FR 68873) was established to control and track access to DLA-controlled networks, computer systems, and databases. The records may also be used by law enforcement officials to identify the occurrence of and assist in the prevention of computer misuse and/or crime.

(m) The Office of the Secretary, DoD Joint Staff system of records DWHS C01, Enterprise Support Portal (ESP) (November 05, 2015, 80 FR 68517) was established to assist OSD Components in organizational management tasks, manpower-related tasks, and general administrative tasks related to employees by retrieving information from the authoritative sources and storing administrative information within the Enterprise Support Portal. To process network/system account requests, IT service/helpdesk requests, and facilities requests.

These three systems of records [items (n) through (p)] are rescinded because the records are now maintained as a part of the DoD-wide system of records titled DoD-0005, Defense Training Records, published in the Federal Register on December 28, 2020 (85 FR 84316).

(n) The Department of the Air Force system of records F035 SAFPA C, Graduates of Air Force Short Course in Communication (Oklahoma University) (June 11, 1997, 62 FR 31793) was established to provide the Academic Detachment Liaison Non-Commissioned Officer in Charge and the Chief, Office for Plans and Resources, Secretary of the Air Force Office of Public Affairs (SAF/PAX) with historical background on the conduct of the course; serves as a ready reference for students to verify or resolve questions concerning their attendance at the Short Course.

(o) The Department of the Air Force system of records F033 AFSPC C, AF e-Learning System (July 26, 2012, 77 FR 43816) was established to provide interactive, self-paced, web-based training and reference material anytime, anywhere to user desktops to keep Air Force personnel skilled in the technology and knowledge they need to carry out their missions. It is used as a management tool in support of Air Force information technology training requirements.

(p) The Department of the Air Force system of records F036 AFOSI E, Command Learning Management System (October 21, 2010, 75 FR 65007) was established to identify, monitor, and schedule Air Force and AFOSI mandated training. The system maintains individuals training history and is a repository for historical documentation such as certificates and transcripts.

These two systems of records [items (q) through (r)] are rescinded because the records are now maintained as a part of the DoD-wide system of records titled DoD-0022, Defense Debt Management Records, published in the Federal Register on June 14, 2024 (89 FR 50581).

(q) The Department of the Navy system of records MJA000005, Financial Assistance/Indebtedness/Credit Inquiry Files (August 17, 1999, 64 FR 44698) was established to provide a record of Marines identified as owing debts or having need for financial aid for use in processing correspondence relating to financial assistance, credit inquiry or indebtedness.

(r) The Department of the Navy system of records N07200-1, Navy Morale, Welfare, and Recreation Debtors List (January 29, 2007, 72 FR 3983) was established to maintain an automated tracking and accounting system for individuals indebted to the Department of the Navy's Morale, Welfare and Recreation (MWR) facilities for the purpose of collecting debts.

These two systems of records [items (s) through (t)] are rescinded because the records are now maintained as a part of the DoD-wide system of records titled DoD-0017, Privacy and Civil Liberties Complaints and Correspondence Records, published in the Federal Register on October 3, 2023 (88 FR 68114).

(s) The Defense Logistics Agency system of records S180.10, Congressional, Executive, and Political Inquiry Records, (October 20, 2011, 76 FR 65185) was established to reply to inquiries and to determine the need for and course of action to be taken for resolution.

(t) The Department of the Air Force system of records F033 SAFLL A, Congressional/Executive Inquiries, (November 10, 2005, 70 FR 68408) was established to use as a reference base in the case of similar inquiries from other Members of Congress, on behalf of the same Air Force issue and/or follow-up by the same Member. Information may also be used by appropriate Air Force offices as a basis for corrective action and for statistical purposes.

The following individual system of records notices [items (u) through (z)] are being rescinded for the reasons stated in each paragraph below.

(u) The Department of the Air Force system of records F044 AF SG R, Reporting of Medical Conditions of Public Health and Military Significance (June 16, 2003, 68 FR 35646) was established to be used for ongoing public health surveillance, which is the systematic collection, analysis, and interpretation of outcome-specific data for use in the planning, implementation, and evaluation of public health practice within the Air Force. The Air Force is rescinding F044 AF SG R because the records are now maintained as part of the DoD-wide system of records titled Defense Accountability and Assessment Records, DoD-0012 published in the Federal Register on December 9, 2022, 87 FR 77088.

(v) The Department of the Air Force system of records system of records F044 AF SG T, Suicide Event Surveillance System (SESS) (June 16, 2003, 68 FR 35646) was established to be used for direct reporting of suicide events and ongoing public health surveillance, which is the systematic collection, analysis, and interpretation of outcome-specific data for use in the planning, implementation, evaluation and prevention within the Air Force. The Air Force is rescinding F044 AF SG T because the records are maintained as part of as a part of the DoD-wide system of records titled EDHA 20 DoD, Department of Defense Suicide Event Report (DoDSER) System published in the Federal Register on April 15, 2016 (81 FR 22240).

(w) The Defense Finance and Accounting Service (DFAS) system of records T7205a, Defense Business Management System (DBMS) (March 12, 2014, 79 FR 14010) was established to provide a means of reporting all costs entering the general ledger; account for appropriated funds; provide a means of reconciling financial records; and for the preparation of most financial reports. The DFAS is rescinding T7205a because the records are maintained as part of S890.11, Defense Agencies Initiative (DAI), published in the Federal Register on June 3, 2019 (84 FR 25537).

(x) The Office of the Secretary, DoD/Joint Staff system of records T7335e, Defense Working Capital Fund System (DWAS) (January 28, 2013, 78 FR 5784) was established as the financial system of record and the single source for consolidated financial information for the General and Working Capital Funds. The DFAS is rescinding T7335e because the system was decommissioned and the records are now maintained as part of the N07220-1, Navy Standard Integrated Personnel System (NSIPS) published in the Federal Register on November 29, 2012 (77 FR 71185).

(y) The Department of the Navy system of records N05802-1, Fiduciary Affairs Records (February 22, 1993, 58 FR 10772) was established to provide nonjudicial financial management of military pay and allowances payable to active duty, fleet reserve, and retired Navy and Marine Corps members for the period during which they are medically determined to be mentally incapable of managing their financial affairs. The Navy is rescinding N05802-1 because the records are now maintained as part of the T7347B, Defense Military Retiree and Annuity Pay System Records published in the Federal Register on January 07, 2009, 74 FR 696.

(z) The Department of the Air Force system of records system of records F033 CVAE A, Secretary of the Air Force Historical Records (June 11, 1997, 62 FR 31793) was established for research by Air Force Historian, other government agencies and private institutions. The Air Force is rescinding F033 CVAE A because the records are now maintained as part of the DoD-wide system of records titled DoD Historical Records, DoD-0014 published in the Federal Register on September 2, 2022 (87 FR 77085).

DoD SORNs have been published in the Federal Register and are available from the address in FOR FURTHER INFORMATION CONTACT or at the Privacy and Civil Liberties Directorate website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or alien lawfully admitted for permanent residence.

In accordance with 5 U.S.C. 552a(r) and Office of Management and Budget (OMB) Circular No. A-108, DoD has provided a report of this SORN bulk rescindment to OMB and Congress.

System name | Number | History
(a) Navy Military Personnel Record System | N01070-3 | April 15, 2010, 75 FR 19627.
(b) Enlisted Master File Automated Systems | N01080-1 | June 7, 2013, 78 FR 34354; September 21, 2006, 71 FR 55173.
(c) Officer Master File Automated Systems | N01080-2 | November 1, 2013, 78 FR 65620; September 21, 2006, 71 FR 55172.
(d) Military Online Personnel System | S310.07 | March 2013, 78 FR 17385; March 4, 2011, 76 FR 12078.
(e) Reserve Affairs Records Collection | S200.30 | June 10, 2010, 75 FR 32915.
(f) Military Personnel Records System | F036 AF PC C | October 13, 2000, 65 FR 60916.
(g) Personnel Data System (PDS) | F036 AF PC Q | June 11, 1997, 62 FR 31793.
(h) Temporary Disability Retirement List (TDRL) Case Files | F036 AFPC E | March 05, 2013, 78 FR 14288.
(i) Account Management Provisioning System (AMPS) | T5210 | October 17, 2014, 79 FR 62431.
(j) Agency Access/Pass File System | KWHC.07 | November 19, 2014, 79 FR 68873.
(k) Access Request Records | RDCAA 590.14 | December 31, 2008, 73 FR 80377.
(l) Information Technology Access and Control Records | S500.55 | November 19, 2014, 79 FR 68873; April 05, 2013, 78 FR 14283; December 2, 2008, 73 FR 73247.
(m) Enterprise Support Portal (ESP) | DWHS C01 | November 05, 2015, 80 FR 68517; March 5 2013, 78 FR 14275.
(n) Graduates of Air Force Short Course in Communication (Oklahoma University) | F035 SAFPA C | June 11, 1997, 62 FR 31793.
(o) AF e-learning System | F033 AFSPC C | July 26, 2012, 77 FR 43816; December 8, 2008, 73 FR 74471.
(p) Command Learning Management System | F036 AFOSI E | October 21, 2010, 75 FR 65007.
(q) Financial Assistance/Indebtedness/Credit Inquiry Files—Debt file | MJA00005 | August 17, 1999, 64 FR 44698.
(r) Navy Morale, Welfare, and Recreation Debtors List | N07200-1 | January 29, 2007, 72 FR 3989.
(s) Congressional, Executive, and Political Inquiry Records | S180.10 | October 20, 2011, 76 FR 65186.
(t) Congressional/Executive Inquiries | F033 SAFLL A | November 10, 2005, 70 FR 68408.
(u) Reporting of Medical Conditions of Public Health and Military Significance | F044 AF SG R | June 16, 2003, 68 FR 35646.
(v) Suicide Event Surveillance System (SESS) | F044 AF SG T | June 16, 2003, 68 FR 35650.
(w) Defense Business Management System (DBMS) | T7205a | March 12, 2014, 79 FR 14010; July 10, 2009, 74 FR 33215.
(x) Defense Working Capital Fund System (DWAS) | T7335e | January 28, 2013, 78 FR 5784; August 13, 2007, 72 FR 45231.
(y) Fiduciary Affairs Records—T7347B | N05802-1 | February 22, 1993, 58 FR 10772.
(z) Secretary of the Air Force Historical Records | F033 CVAE A | June 11, 1997, 62 FR 31793.

Dated: October 1, 2024.
Aaron T. Siegel,
Alternate OSD Federal Register Liaison Officer, Department of Defense.

[FR Doc. 2024-23071 Filed 10-4-24; 8:45 am]

BILLING CODE 6001-FR-P